DEPARTMENT OF THE INTERIOR

Minerals Management Service

Agency Information Collection Activities: Proposed Collection; Comment Request

AGENCY: Minerals Management Service (MMS), Interior.

ACTION: Notice of extension and revision of a currently approved information collection (OMB Control Number 1010-0050).

SUMMARY: To comply with the Paperwork Reduction Act of 1995 (PRA), we are inviting comments on a collection of information that we will submit to the Office of Management and Budget (OMB) for review and approval. The information collection request (ICR) concerns the paperwork requirements in the regulations under 30 CFR 250, subpart J, Pipelines and Pipeline Rights-of-Way.

DATES: Submit written comments by May 31, 2002.

ADDRESSES: Mail or hand-carry comments to the Department of the Interior; Minerals Management Service; Attention: Rules Processing Team; Mail Stop 4024; 381 Elden Street; Herndon, Virginia 20170-4817.

FOR FURTHER INFORMATION CONTACT: Alexis London, Rules Processing Team, telephone (703) 787-1600. You may also contact Alexis London to obtain a copy at no cost of the regulations that require the subject collection of information.

SUPPLEMENTARY INFORMATION: Title: 30 CFR 250, Subpart J, Pipelines and Pipeline Rights-of-Way.

OMB Control Number: 1010-0050, incorporating 1010-0134.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Section 1334(e) authorizes the Secretary to grant rights-of-way through the submerged lands of the OCS for pipelines “for the transportation of oil, natural gas, sulphur, or other minerals, or under such regulations and upon such conditions as may be prescribed by the Secretary, * * * including (as provided in section 1347(b) of this title) assuring maximum environmental protection by utilization of the best available and safest technologies, including the safest practices for pipeline burial. * * *”

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those which accrue to the public at large. Pipeline rights-of-way and assignments are subject to cost recovery and MMS regulations specify filing fees for applications.

This notice concerns the reporting and recordkeeping elements of 30 CFR 250, subpart J and related Notices to Lessees and Operators. OMB approved the information collection requirements in current subpart J regulations under control numbers 1010-0050 and 1010-0134. The first is the primary collection for subpart J. The latter was approved in connection with a final rule amending § 250.1000(c) to clarify regulatory issues involving the 1996 Memorandum of Understanding between DOI and the Department of Transportation (DOT). Our submission will consolidate these two subpart J collections under 1010-0050. Responses are mandatory or are required to obtain or retain a benefit. No questions of a “sensitive” nature are asked. MMS will protect proprietary information according to the Freedom of Information Act (5 U.S.C. 552) and its implementing regulations (43 CFR 2), 30 CFR 250.196 (Data and information to be made available to the public) and 30 CFR part 252 (OCS Oil and Gas Information Program).

The lessees and transmission companies design the pipelines that they install, maintain, and operate. To ensure those activities are performed in a safe manner, MMS needs information concerning the proposed pipeline and safety equipment, inspections and tests, and natural and manmade hazards near the proposed pipeline route. MMS field offices use the information collected under subpart J to review pipeline designs prior to approving an application for a right-of-way or a pipeline permitted under a lease to ensure that the pipeline, as constructed, will provide for safe transportation of minerals through the submerged lands of the OCS. They review proposed routes of a right-of-way to ensure that the right-of-way, if granted, would not conflict with any State requirements or unduly interfere with other OCS activities. MMS field offices review plans for taking pipeline safety equipment out of service to ensure alternate measures are used that will properly provide for the safety of the pipeline and associated facilities (platform, etc.). They review notification of relinquishment of a right-of-way grant and requests to abandon pipelines to ensure that all legal obligations are met and pipelines are properly abandoned. MMS inspectors monitor the records on pipeline inspections and tests to ensure safety of operations and protection of the environment and to schedule their workload to permit witnessing and inspecting operations. Information is also necessary to determine the point at which DOI or DOT has regulatory responsibility for a pipeline and to be informed of the responsible operator if not the same as the right-of-way holder.

Frequency: The frequency of reporting is on occasion or annual.

Estimated Number and Description of Respondents: Approximately 130 Federal OCS oil, gas, and sulphur lessees and 106 holders of pipeline rights-of way.

Estimated Annual Reporting and Recordkeeping “Hour” Burden: The currently approved “hour” burden for the two subpart J information collections is a combined total of 79,086 hours. The following chart details the individual paperwork components and respective hour burden estimates of this ICR. In calculating the burdens, we assumed that respondents perform certain requirements in the normal course of business. We consider these to be usual and customary and took that into account in our estimates.

Citation 30 CFR 250 subpart J | Reporting and recordkeeping requirement | Burden per requirement (hrs)
1000(b), 1007(a) | Submit application to install new lease term pipeline (P/L), including exceptions/departures | 140
1000(b), (d); 1007(a); 1009(a)(1), (b)(1); 1010; 1011 | Apply for P/L right-of-way (ROW) grant and installation of new ROW P/L, including exceptions/departures | 140
1000(b); 1007(b); 1010; 1012(b)(2), (c) | Submit application to modify lease-term or ROW P/L, including exceptions/departures; notify operators of deviation | 40
1000(b); 1006(a); 1007(c) | Apply to abandon lease-term P/L, including exceptions/departures | 8
1000(b); 1006(a); 1007(c); 1009(c)(9); 1014 | Apply to abandon ROW P/L and relinquish P/L ROW grant, including exceptions/departures | 8
1000(c)(2) | Identify in writing P/L operator on ROW if different from ROW grant holder | ¼
1000(c)(4) | Petition to MMS for exceptions to general operations transfer point description | 5
1000(c)(8) | Request MMS recognize valves landward of last production facility but still located on OCS as point where MMS regulatory authority begins | ½
1000(c)(12) | Petition to MMS to continue to operate under DOT regs upstream of last valve on last production facility | 40
1000(c)(13) | Transportation P/L operators petition to DOT and MMS to continue to operate under MMS regs | 40
1004(c) | Place sign on safety equipment identified as ineffective and removed from service. See footnote¹
1005(a) | Inspect P/L routes for indication of leakage ¹, record results, maintain records 2 years ² | 20
1008(a), (c), (d), (e), (f), (h) | Notify MMS and submit report on P/L or P/L safety equipment repair, removal from service, analysis results, or potential measurements | 16
1008(b) | Submit P/L construction report | 16
1008(g) | Submit plan of corrective action and report of remedial action | 16
1009(b) | Submit surety bond on form MMS-2030 | ¼
1009(c)(4) | Notify MMS of any archaeological resource discovery | 4
1009(c)(8) | Make available to MMS design, construcion, operation, maintenance, and repair records on ROW area and improvements ² | 10
1010(a) | Apply to convert lease-term P/L to ROW grant P/L; notify operators of deviation, including various exceptions/departures | 12
1011(d) | Request opportunity to eliminate conflict when application has been rejected | 1
1013 | Apply for assignment of a ROW grant | 12
1000-1014 | General departure and alternative compliance requests not specifically covered elsewhere in subpart J regulations | 2
¹ These activities are usual and customary practices for prudent operators.
² Retaining these records is usual and customary business practice; required burden is minimal.

Estimated Annual Reporting and Recordkeeping “Non-Hour Cost” Burden: The currently approved non-hour cost burden for collection 1010-0050 is $332,000; there was no non-hour cost burden under 1010-0134. Section 250.1010(a) specifies that an applicant must pay a non-refundable filing fee when applying for a pipeline right-of-way grant to install a new pipeline ($2,350) or to convert an existing lease-term pipeline into a right-of-way pipeline ($300). Under § 250.1013(b) an applicant must pay a non-refundable filing fee ($60) when applying for approval of an assignment of a right-of-way grant.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information collected; and (d) minimize the burden on respondents, including automated collection techniques or other forms of information technology.

Agencies must also estimate the “non-hour cost” burdens to respondents or recordkeepers resulting from the collection of information. Except as noted above for application filing fees required in §§ 250.1010(a) and 250.1013(b), we have identified no other non-hour cost burdens. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. Generally, your estimates should not include equipment or services purchased: (i) Before October 1, 1995; (ii) to comply with requirements not associated with the information collection; (iii) for reasons other than to 1 provide information or keep records for the Government; or (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: February 12, 2002.
William S. Hauser,
Acting Chief, Engineering and Operations Division.

[FR Doc. 02-7802 Filed 3-29-02; 8:45 am]

BILLING CODE 4310-MR-P